DEPARTMENT OF AGRICULTURE

Submission for OMB Review; Comment Request

December 10, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by January 14, 2019 will be considered. Written comments should be addressed to: Desk Officer for Agriculture, Office of Information and Regulatory Affairs, Office of Management and Budget (OMB), New Executive Office Building, 725 17th Street NW, Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Service Pesticide-Use Proposal Form.

OMB Control Number: 0596-0241.

Summary of Collection: The Forest Service (FS) is authorized under the Federal Insecticide, Fungicide, and Rodenticide Act, as amended (7 U.S.C. 136, and 40 CFR part 171; the Cooperative Forestry Assistance Act of 1978 (16 U.S.C. 2101) as amended by the Food, Agriculture, Conservation, and Trade Act of 1990 (7 U.S.C. 1421), and 36 CFR part 219; and the National Environmental Policy Act 42 CFR part 4321), and 36 CFR part 220 to collect information on proposed use of pesticides on lands administered by FS to safe guard natural resources and human health.

Need and Use of the Information: FS will use form FS-2100-2 to collect pesticide project information from entities for application of pesticides upon FS administered lands within rights-of-way easements, permitted lands, and under similar circumstances. Categories of information requested are descriptive of type, amount, and location of applications, as well as identification of qualifying credentials of those performing the work. Proposals will be evaluated by FS pesticide use coordinators and other administrative personnel to safeguard human health and ecological protection consistent with FS land use management programs. Without the ability to collect the details of proposed projects from outside parties, the FS would not be able to make appropriately informed decisions concerning land stewardship and necessary ecological and human health safeguards.

Description of Respondents: Individuals or households, Businesses and Organizations, and State, Local and Tribal Governments.

Number of Respondents: 36.

Frequency of Responses: Reporting: Other (One time only).

Total Burden Hours: 600.

TItle: Airplane Pilot Qualifications and Approval Record, Helicopter Pilot Qualifications and Approval Record, Airplane Data Record, and Helicopter Data Record.

OMB Control Number: 0596-0015.

Summary of Collection: The Forest Service (FS) is the largest owner and operator of aircraft in the federal government outside of the Department of Defense. The process by which FS operates, maintains, and provides aircraft is through the use of Federal Government contractual agreements with private industry. Two types of aviation contracts are used: Exclusive Use contracts and Call-When-Needed (CWN) contracts. Currently, in excess of 700 private companies contract with the FS for use in resource protection and administrative projects. In addition, the agency owns and operates 27 agency aircraft. The majority of FS flying is in support of wildland fire suppression. Contractor aircraft and pilots are used to place water and chemical retardants on fires, provide aerial delivery of firefighters to fires, perform reconnaissance, resource surveys, search for lost personnel, and fire detection. Contracts for such services established rigorous qualification requirements for pilots and specific condition/equipment/performance requirements for aircraft. The authority is granted under the Federal Aviation Administration Regulations in Title 14 (Aeronautics and Space) of the Code of Federal Regulations.

Need and Use of the Information: FS will collect information using FS forms to document the basis for approval of contract pilot and aircraft for use in specific FS aviation missions. The information collected from contract pilots in face to face meetings (such as name, age, pilots license number, number of hours flown in type of aircraft, etc.) is based on the length and type of contract but is usually done on an reoccurring annual basis. Without the information supplied on these forms, FS contracting officers and pilot/aircraft inspectors cannot determine if pilots and aircraft meet the detailed qualification, equipment, and condition requirements essential to safe, efficient accomplishment of FS specified flying missions and which are included in contract specifications.

Description of Respondents: Individuals or households, Businesses and Organizations, and State, Local and Tribal Governments.

Number of Respondents: 2,555.

Frequency of Responses: Reporting: Other (One time only).

Total Burden Hours: 3,577.

Title: Forest Industries Post Data Collection Systems.

OMB Control Number: 0596-0010.

Summary of Collection: The Forest and Range Renewable Resources Planning Act of 1974 (Pub. L. 93-278), National Forest Management Act of 1976 (16 U.S.C. 1600), and the Forest and Rangeland Renewable Resources Research Act of 1978 (Pub. L. 95-307) amended by the Energy Security Act of 1980 (42 U.S.C. 8701) require the Forest Service (FS) to evaluate trends in the use of logs and wood chips, to forecast anticipated levels of logs and wood chips, and to analyze changes in the harvest of the resources. Forest product and other wood-using industries are important to state, regional, and national economies. In most southern states, the value of rounded timber products is ranked either first or second in relation to other major agricultural crops. The importance and value of the timber products industry is significant in other regions of the United States as well. The FS will collect information using questionnaires.

Need and Use of the Information: To monitor the types, species, volumes, sources, and prices of the timber products harvested throughout the Nation. Using the “Primary Mill Questionnaire” FS will collect industrial round wood information from the primary wood-using industries throughout the United States and from mills in Canada that directly receive wood from the United States. FS will also use the “Pulp & Board Forest Industries Questionnaire.” The data will be used to develop specific economic development plans for a new forest related industry in a State and to assist existing industries in identifying raw material problems and opportunity. The “Loggers Survey” will track information pertaining to the logging company to determine changes in the logging contractor workforce as a whole, not by individual company. This type of data is important in understanding the logging industry and its response to outside influences. If the information were not collected, data would not be available for sub-state, state, regional and national policy makers and program developers to make decisions related to the forestland on a scientific basis.

Description of Respondents: Businesses or other for-profit; Not-for-profit institutions.

Number of Respondents: 5,737.

Frequency of Responses: Reporting: Other (One time only).

Total Burden Hours: 2,223.

Kimble Brown,
Departmental Information Collection Clearance Officer.

[FR Doc. 2018-27011 Filed 12-12-18; 8:45 am]

BILLING CODE 3411-15-P